DEPARTMENT OF HOMELAND SECURITY

Coast Guard

[Docket No. USCG-2016-0031]

Chemical Transportation Advisory Committee; Vacancies

AGENCY: Coast Guard, DHS.

ACTION: Request for applications.

SUMMARY: The Coast Guard seeks applications for membership on the Chemical Transportation Advisory Committee. The Chemical Transportation Advisory Committee provides advice and makes recommendations reflecting its independent judgment to the Commandant of the United States Coast Guard on matters concerning the safe and secure marine transportation of hazardous materials, including industry outreach approaches.

DATES: Completed applications should reach the Coast Guard on or before May 24, 2016.

ADDRESSES: Applicants should send a cover letter expressing interest in an appointment to the Chemical Transportation Advisory Committee that identifies which membership category the applicant is applying under, along with a resume detailing the applicant's experience via one of the following methods:

• By Email: Patrick.a.Keffler@uscg.mil.

• By Mail: Mr. Patrick Keffler, Alternate Designated Federal Official of the Chemical Transportation Advisory Committee, Commandant, Hazardous Materials Division (CG-ENG-5), U.S. Coast Guard, 2703 Martin Luther King Jr. Avenue SE., Stop 7509, Washington, DC 20593-7509.

FOR FURTHER INFORMATION CONTACT: Mr. Patrick Keffler, Alternate Designated Federal Official of the Chemical Transportation Advisory Committee; telephone (202) 372-1424, email Patrick.a.Keffler@uscg.mil.

SUPPLEMENTARY INFORMATION: The Chemical Transportation Advisory Committee is established under the authority of Section 871 of the Homeland Security Act of 2002, 6 U.S.C. 451. The Chemical Transportation Advisory Committee is an advisory committee established in accordance with and operating under the provisions of the Federal Advisory Committee Act (Title 5 U.S.C. Appendix).

The Committee provides advice and makes recommendations reflecting its independent judgment to the Commandant of the United States Coast Guard on matters concerning the safe and secure marine transportation of hazardous materials, including industry outreach approaches.

The Chemical Transportation Advisory Committee meets at least twice per year, typically every six months. It may also meet for extraordinary purposes. Its subcommittees may meet to consider specific tasks as required.

The Coast Guard will consider applications for seven positions that will be vacant on September 17, 2016.

The membership categories are: Marine Handling and Transportation, Marine Environmental Protection, Safety and Security, Vessel Design and Construction, and Chemical Manufacturing.

To be eligible, applicants should have experience in chemical manufacturing, marine handling or transportation of chemicals, vessel design and construction, marine safety or security, or marine environmental protection. Each member serves for a term of three years. Committee members are limited to serving no more than two consecutive three-year terms. A member appointed to fill an unexpired term may serve the remainder of that term. All members serve at their own expense and receive no salary, reimbursement of travel expenses, or other compensation from the Federal Government.

Registered lobbyists are not eligible to serve on federal advisory committees in an individual capacity. See “Revised Guidance on Appointment of Lobbyists to Federal Advisory Committees, Boards and Commissions” (79 FR 47482, August 13, 2014). Registered lobbyists are lobbyists required to comply with provisions contained in 2 U.S.C. 1605.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment actions.

If you are interested in applying to become a member of the Committee, send your cover letter and resume to Mr. Patrick Keffler, Alternate Designated Federal Officer of the Chemical Transportation Advisory Committee, via one of the transmittal methods in the ADDRESSES section by the deadline in the DATES section of this notice.

All email submittals will receive email receipt confirmation.

Dated: March 21, 2016.
F.J. Sturm,
Acting Director of Commercial Regulations and Standards, U.S. Coast Guard.

[FR Doc. 2016-06749 Filed 3-24-16; 8:45 am]

BILLING CODE 9110-04-P